NATIONAL SCIENCE FOUNDATION

Sunshine Act Meetings

The National Science Board (NSB) and the NSB Committee on Strategy (CS) hereby give notice of the scheduling of meetings for the transaction of National Science Board business pursuant to the National Science Foundation Act and the Government in the Sunshine Act.

TIME AND DATE: Wednesday, November 29, 2023, from 10:00 a.m.-5:20 p.m. and Thursday, November 30, 2023, from 8:30 a.m.-2:05 p.m. Eastern.

PLACE: These meetings will be held at NSF headquarters, 2415 Eisenhower Avenue, Alexandria, VA 22314, and by videoconference. If the COVID status for Alexandria, Virginia goes to “high,” please fill out and bring OMB's certification of vaccination form with you. All open sessions of the meeting will be webcast live on the NSB YouTube channel.

November 29, 2023— https://www.youtube.com/watch?v=Wtyvh6VBbKI

November 30, 2023— https://www.youtube.com/watch?v=P-B91ZCfCw0

STATUS: Parts of these meetings will be open to the public. The rest of the meetings will be closed to the public. See full description below.

MATTERS TO BE CONSIDERED:

Wednesday, November 29, 2023

Plenary Board Meeting

Open Session: 10:00-1:00 p.m.

• NSB Chair's Opening Remarks

• NSF Director's Remarks

○ External Engagements/Office of Legislative and Public Affairs update

○ Senior Staff updates

• Approval of August 2023 Open Meeting minutes

• Discussion with NSF Directorate for STEM Education, Assistant Director, James Moore

• NSB Committee Reports

○ Committee on External Engagement

○ update on engagement initiatives

○ Committee on Science and Engineering Policy

○ National Security Team

○ Talent Development Team

• NSF SAHPR Update

Closed Session: 2:00-2:25 p.m.

• NSB Chair's Remarks

• NSF Director's Remarks

• Agency Operating Status

• Approval of May 2023 Closed Meeting Minutes

Committee on Strategy

Closed Meeting: 2:25-2:55 p.m.

• Committee Chair's Opening Remarks on the Agenda

• NSF FY 2024 and 2025 Budget Update

• CHIPS and Science Update (written)

Plenary NSB

Closed Session: 2:55-4:35 p.m.

• NSF SAHPR Update

• SAHPR-related Statement and Discussion with NSB

• Vote to move into Executive Plenary Closed

Plenary Board

Closed (Executive) Session: 4:35-5:20 p.m.

• NSB/NSF Discussion of SAHPR-related Statement

Thursday, November 30, 2023

Plenary Board Meeting

Open Session: 8:30-9:50 a.m.

• NSB Chair's Opening Remarks

• Presentation and Discussion, Office of the Chief Diversity and Inclusion Officer, Charles Barber

• NSB Committee Reports

○ Committee on Awards and Facilities

Next Generation Very Large Array

○ Committee on Oversight

○ NSB-NSF Commission on Merit Review

Plenary Board Meeting

Closed Session: 10:00a.m.-12:05 p.m.

• NSB Closed Committee Reports

○ Subcommittee on Technology, Innovation, and Partnerships

○ Report on 11/21 S-TIP meeting

• Regional Innovation Engines Presentation and Discussion

○ Consideration of associated resolution

• NSB Closed Committee Reports

○ NSB-NSF Commission on Merit Review

○ Committee on Awards and Facilities

○ Annual report of the Chief Officer for Research Facilities

○ Antarctic Research Season Briefing

○ Leadership-Class Computing Facility Construction Award and Vote

• Vote to move into Executive Plenary Closed Session

Plenary Board

Closed (Executive) Session: 12:50 p.m.-2:05 p.m.

• NSB Chair's Opening Remarks

• Approval of August 2023 Executive Plenary closed meeting minutes

• NSB Honorary Awards, Discussion of slate of finalists for the 2024 Vannevar Bush and Science & Society awards and Vote

• NSF Director's Remarks

○ Organizational Updates

○ Infrastructure Planning

• NSB Chair's Closing Remarks

Meeting Adjourns: 2:05 p.m.

Portions Open to the Public

Wednesday, November 29, 2023

10:00 a.m.-1:00 p.m. Plenary NSB

Thursday, November 30, 2023

8:30 a.m.-9:50 a.m. Plenary NSB

Portions Closed to the Public

Wednesday, November 29, 2023

2:00 p.m.-2:25 p.m. Plenary NSB

2:25 p.m.-2:55 p.m. Committee on Strategy

2:55 p.m.-4:35 p.m. Plenary NSB

4:35 p.m.-5:20 p.m. Plenary NSB (executive session)

Thursday, November 30, 2023

10:00 a.m.-12:05 p.m. Plenary NSB

12:50 p.m.-2:05 p.m. Plenary NSB (executive session)

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Ann E. Bushmiller,
Senior Counsel to the National Science Board.

[FR Doc. 2023-26225 Filed 11-24-23; 11:15 am]

BILLING CODE 7555-01-P